SMALL BUSINESS ADMINISTRATION

[Declaration of Disaster #3341]

State of Minnesota; Amendment #4

In accordance with a notice received from the Federal Emergency Management Agency, dated June 21, 2001, the above-numbered Declaration is hereby amended to include Crow Wing, Kandiyohi, Lake of the Woods and Meeker Counties in the State of Minnesota as disaster areas caused by severe winter storms, flooding and tornadoes occurring between March 23, 2001 and continuing.

Any counties contiguous to the above named primary counties and not listed here have been previously declared.

All other information remains the same, i.e., the deadline for filing applications for physical damage is July 15, 2001 and for economic injury the deadline is February 15, 2002.

(Catalog of Federal Domestic Assistance Program Nos. 59002 and 59008)
Dated: June 22, 2001.
Herbert L. Mitchell,
Associate Administrator for Disaster Assistance.

[FR Doc. 01-16433 Filed 6-28-01; 8:45 am]

BILLING CODE 8025-01-P